DEPARTMENT OF THE INTERIOR

National Park Service

[NPS-WASO-NAGPRA-NPS0033683; PPWOCRADN0-PCU00RP14.R50000]

Notice of Intent To Repatriate Cultural Items: Presbyterian Historical Society, Philadelphia, PA

AGENCY: National Park Service, Interior.

ACTION: Notice.

SUMMARY: The Presbyterian Historical Society, in consultation with the appropriate Indian Tribes or Native Hawaiian organizations, has determined that the cultural item listed in this notice meets the definition of both a sacred object and an object of cultural patrimony. Lineal descendants or representatives of any Indian Tribe or Native Hawaiian organization not identified in this notice that wish to claim this cultural item should submit a written request to the Presbyterian Historical Society. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the Presbyterian Historical Society at the address in this notice by May 9, 2022.

FOR FURTHER INFORMATION CONTACT: Nancy J. Taylor, Executive Director, Presbyterian Historical Society, 425 Lombard Street, Philadelphia, PA 19147, telephone (215) 627-1852, email ntaylor@history.pcusa.org.

SUPPLEMENTARY INFORMATION: Notice is here given in accordance with the Native American Graves Protection and Repatriation Act (NAGPRA), 25 U.S.C. 3005, of the intent to repatriate a cultural item under the control of the Presbyterian Historical Society, Philadelphia, PA, that meets the definition of both a sacred object and an object of cultural patrimony under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

The Presbyterian Historical Society (PHS) holds in its museum collection a “[c]onch shell used by David Brainerd to call Native Americans to worship” (accession number 638).

David Brainerd (1718-1747) was an ordained Presbyterian minister who served as a missionary to Mohican, Stockbridge, and Delaware Indians in New York, Pennsylvania, and New Jersey from 1743 to 1746. According to PHS records, PHS acquired the conch shell sometime in the late nineteenth century from Sarah E. Marsh, daughter of Reverend Cutting Marsh, with Reverend William P. Breed acting as intermediary. In 1830, Cutting Marsh (1800-1873), a Presbyterian, began missionary work among the Stockbridge in Wisconsin. The one sacred object/object of cultural patrimony is a large conch shell.

According to information provided by the Stockbridge Munsee Community, Wisconsin, the conch shell is an object of cultural patrimony as well as a sacred object. Relying on oral tradition and supported by evidence in written accounts, the Stockbridge Munsee Community, Wisconsin posits that Mohican Sachem John Metoxan blew the conch shell for worship. Metoxan led 80 Stockbridge-Munsee Community ancestors west to Indiana in 1818 and joined the majority of the community in Wisconsin in 1822. He became sachem in 1830, the same year Reverend Cutting Marsh began his missionary work in Wisconsin.

Determinations Made by the Presbyterian Historical Society

Officials of the Presbyterian Historical Society have determined that:

• Pursuant to 25 U.S.C. 3001(3)(C), the one cultural item described above is a specific ceremonial object needed by traditional Native American religious leaders for the practice of traditional Native American religions by their present-day adherents.

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the sacred object and object of cultural patrimony and the Stockbridge Munsee Community, Wisconsin.

Additional Requestors and Disposition

Lineal descendants or representatives of any Indian Tribe or Native Hawaiian organization not identified in this notice that wish to claim this cultural item should submit a written request with information in support of the claim to Nancy J. Taylor, Executive Director Presbyterian Historical Society, 425 Lombard Street, Philadelphia, PA 19147, telephone (215) 627-1852, email ntaylor@history.pcusa.org, by May 9, 2022. After that date, if no additional claimants have come forward, transfer of control of the sacred object and object of cultural patrimony to the Stockbridge Munsee Community, Wisconsin may proceed.

The Presbyterian Historical Society is responsible for notifying the Stockbridge Munsee Community, Wisconsin that this notice has been published.

Dated: April 1, 2022.
Melanie O'Brien,
Manager, National NAGPRA Program.

[FR Doc. 2022-07604 Filed 4-7-22; 8:45 am]

BILLING CODE 4312-52-P